ENVIRONMENTAL PROTECTION AGENCY

40 CFR Part 300

[EPA-HQ-SFUND-1983-0002; EPA-HQ-SFUND-1989-0008; EPA-HQ-SFUND-1986-0005; EPA-HQ-SFUND-1990-0010; FRL-10023-78-OLEM]

Deletions From the National Priorities List

AGENCY: Environmental Protection Agency (EPA).

ACTION: Final rule.

SUMMARY: The Environmental Protection Agency (EPA) announces the partial deletion of five sites from the Superfund National Priorities List (NPL). The NPL, created under section 105 of the Comprehensive Environmental Response, Compensation, and Liability Act (CERCLA) of 1980, as amended, is an appendix of the National Oil and Hazardous Substances Pollution Contingency Plan (NCP). The EPA and the states, through their designated state agencies, have determined that all appropriate response actions under CERCLA, other than operation and maintenance, monitoring, and five-year reviews, where applicable, have been completed. However, this deletion does not preclude future actions under Superfund.

DATES: The document is effective on May 14, 2021.

ADDRESSES: Docket: EPA has established a docket for this action under the Docket Identification included in Table 1 in the SUPPLEMENTARY INFORMATION section of this document. All documents in the docket are listed on the https://www.regulations.gov website. Although listed in the index, some information is not publicly available, i.e., Confidential Business Information or other information whose disclosure is restricted by statute. Certain other material, such as copyrighted material, is not placed on the internet and will be publicly available only in hard copy form. Publicly available docket materials are available either electronically through https://www.regulations.gov or in hard copy at the corresponding Regional Records Centers. Locations, addresses, and phone numbers of the Regional Records Centers follow.

Regional Records Centers:

• Region 3 (DE, DC, MD, PA, VA, WV), U.S. EPA Superfund Records Center, 1650 Arch Street, Mail code 3SD42, Philadelphia, PA 19103; 215/814-3024.

• Region 5 (IL, IN, MI, MN, OH, WI), U.S. EPA Superfund Division Records Manager, Mail code SRC-7J, Metcalfe Federal Building, 7th Floor South, 77 West Jackson Boulevard, Chicago, IL 60604; 312/886-4465.

• Region 7 (IA, KS, MO, NE), U.S. EPA, 11201 Renner Blvd., Mail code SUPRSTAR, Lenexa, KS 66219; 913/551-7956.

• Region 9 (AZ, CA, HI, NV, AS, GU, MP), U.S. EPA, 75 Hawthorne Street, Mail code SFD 6-1, San Francisco, CA 94105; 415/972-3160.

The EPA is temporarily suspending Regional Records Centers for public visitors to reduce the risk of transmitting COVID-19. Information in these repositories, including the deletion docket, may not be updated with hardcopy or electronic media. For further information and updates on EPA Docket Center services, please visit us online at https://www.epa.gov/dockets.

The EPA continues to carefully and continuously monitor information from the Centers for Disease Control and Prevention (CDC), local area health departments, and our Federal partners so that we can respond rapidly as conditions change regarding COVID.

FOR FURTHER INFORMATION CONTACT:

• Andrew Hass, U.S. EPA Region 3 (DE, DC, MD, PA, VA, WV), hass.andrew@epa.gov, 215/814-2049

• Karen Cibulskis, U.S. EPA Region 5 (IL, IN, MI, MN, OH, WI), cibulskis.karen@epa.gov, 312/886-1843

• David Wennerstrom, U.S. EPA Region 7 (IA, KS, MO, NE), wennerstrom.david@epa.gov, 913/551-7996

• Eric Canteenwala, U.S. EPA Region 9 (AZ, CA, HI, NV, AS, GU, MP), Canteenwala.eric@epa.gov, 415/972-3932

• Chuck Sands, U.S. EPA Headquarters, sands.charles@epa.gov, 703/603-8857

SUPPLEMENTARY INFORMATION: Table 1 includes the portions of the site (media and areas) to be partially deleted from the NPL.

Table 1
Site name | City/county, state | Media/parcels for partial deletion | Docket No. EPA-HQ-SFUND- year-docket ID
Palmerton Zinc Pile | Palmerton, PA | 117 parcels in OU3 | 1983-0002
North Penn—Area 6 | Lansdale, PA | 1.66-acres soil and groundwater of the Second Administrative Parcel, 135 East Hancock Street | 1989-0008
Lake Sandy Jo (M&M Landfill) | Gary, IN | Soil media of Landfill Property and identified adjacent parcels of OU1 land | 1983-0002
Midwest Manufacturing/North Farm | Kellogg, IA | OU 1 North Farm | 1986-0005
Fort Ord | Marina, CA | Soil media of approximately 11,934 acres¹ | 1990-0010
Footnote 1 for Table 1: The acreage of the partial deletion for the Fort Ord Superfund site was incorrectly reported in the proposed rule as 11,961-acres due to an administrative error. The correct acreage is 11,934-acres. The names and descriptions of all parcels identified for partial deletion were correct and remain unchanged.

The sites to be partially deleted from the NPL, information concerning the proposed rule for the partial deletion including reference documents with the rationale and data principally relied upon by the EPA to determine that the Superfund response is complete, public comment and Responsiveness Summary (RS) (if applicable) are included in Table 2.

Table 2
Site name | Date, proposed rule | FR citation | Public comment | RS | Footnote
Palmerton Zinc Pile | 11/20/2020 | 85 FR 74306 | No | No |
North Penn—Area 6 | 12/30/2020 | 85 FR 86525 | Yes | Yes | 1, 2, 3
Lake Sandy Jo (M&M Landfill) | 11/20/2020 | 85 FR 74306 | Yes | Yes | 1, 2, 3
Midwest Manufacturing/North Farm | 11/20/2020 | 85 FR 74306 | No | No | 1, 3
Fort Ord | 11/20/2020 | 85 FR 74306 | Yes | Yes | 1, 2, 3

The NCP permits activities to occur at a deleted site or that media or parcel of a partially deleted site, including operation and maintenance of the remedy, monitoring, and five-year reviews. These activities for the site are entered in Table 2 above, if applicable, under Footnote such that; 1 = site has continued operation and maintenance of the remedy, 2 = site receives continued monitoring, and 3 = site five-year reviews are conducted. All other Superfund site areas and media will remain on the NPL and are not being considered for deletion as part of this action.

The EPA received comments on three of the sites included for partial deletion in this final rule. EPA did not receive adverse comments on the Palmerton Zinc Pile and Midwest Manufacturing/North Farm sites, therefore EPA will proceed with the partial deletions. For the North Penn—Area 6 site, the closing date for comments on the Notice of Intent to Delete was January 29, 2021. Three public comments were received. One comment supported the proposed deletion. One comment was not related to the proposed rulemaking partially deleting the site from the NPL. The third commentor questioned EPA's technical rationale for the proposed partial deletion. EPA has determined that all appropriate Fund-financed responses under CERCLA have been implemented at the 1.66-acre portion of the approximately 650-acre North Penn—Area 6 site proposed for deletion, and this forms the basis for deciding that the Second Administrative Parcel is eligible for deletion. Response actions continue for other portions of the site which remain on the NPL. Further details of the technical basis for partial deletion are provided within documents in the docket. EPA reviewed soil and groundwater data, which indicate that soil and groundwater contamination levels do not warrant further response actions within the Second Administrative Parcel. Remedial Action completion reports for soils (Operable Unit 1) and groundwater (Operable Unit 3) are both included in the deletion docket. EPA still believes the deletion action is appropriate. A responsiveness summary was prepared and placed in the docket, EPA-HQ-SFUND-1989-0008, on https://www.regulations.gov, and in the Regional repository listed in the ADDRESSES section.

For the Lake Sandy Jo (M&M Landfill) site, the closing date for comments on the Notice of Intent to Delete was December 21, 2020. Three public comments were received. Two residents living near the site submitted comments. A third comment from Regulations.gov included general comments on the content and wording of EPA's November 20, 2020 Federal Register notice. The two residents commented on multiple issues and expressed community concerns that the site was still contaminated, and EPA was proposing to delete the site to eliminate EPA responsibility. EPA contacted the residents, provided additional information, and conducted a virtual meeting to further explain the proposed partial deletion of the land/soil portion of the Landfill Property and identified adjacent parcels. Continued response actions will occur at portions of the site which remain on the NPL. EPA has determined that it is appropriate to proceed with the deletion because all response actions at the portion of the Lake Sandy Jo site proposed for deletion are complete and the criteria for deletion have been met. A responsiveness summary was prepared and placed in the docket, EPA-HQ-SFUND-1983-0002, on https://www.regulations.gov, and in the Regional repository listed in the ADDRESSES section.

For the Fort Ord site, the closing date for comments on the Notice of Intent to Delete was December 21, 2020. Seven submissions from five commenters opposing the partial deletion were received. Several comments questioned the timing of the partial deletion proposal at the end of the previous Administration, subsequent to the sunset of the Fort Ord Reuse Authority in June 2020, and questioned the utility of a partial deletion rather than a full site deletion after all response work would be complete at the site. EPA is deleting portions of Fort Ord from the NPL because they meet the-criteria for site deletion, that all appropriate response actions have been implemented. EPA determined the partial deletion was appropriate in consultation with state agencies including the California Department of Toxic Substances Control and the Central Coast Regional Water Quality Control Board. The Fort Ord Reuse Authority completed their clean-up responsibilities and the sunset of the Authority does not impact future clean-up. The Army will remain responsible for the remaining site clean-up with EPA and state oversight. Other comments questioned the public outreach activities at the site for the partial deletion and dissemination of information to new residents. The site has robust public outreach activities, even though COVID restrictions recently imposed by the State impacted in-person community outreach activities at Fort Ord. Several submissions from commentors were received which included historic information and information about other sites which were not accurate or germane for current clean-up actions at portions of the Fort Ord site proposed for partial deletion. Comments included concerns about residual munitions remaining after clean-up and contamination from lead. Lead contamination at the site is primarily found at former small arms training ranges; 162,800 cubic yards of soil and 719,000 pounds of spent ammunition were removed from the former Site 3 Beach Trainfire Ranges, now Fort Ord Dunes State Park. After clean-up, bullets are occasionally found. The Fort Ord Dunes State Park personnel collect bullets as required by state deed covenants and transfer them to the Army for disposal. If suspected munitions or explosives of concern are found at Fort Ord Dunes State Park, personnel notify the County bomb squad and the Army. Several additional small areas of lead contamination that have not yet been addressed remain on the NPL. Concerns were expressed about per- and polyfluoroalkyl substances (PFAS) compound contamination. The following media remain on the NPL: Groundwater, soil gas and surface areas impacted by soil gas, and all soil and groundwater media associated with areas under evaluation for the potential presence of contamination from per- and polyfluoroalkyl substances (PFAS) compounds. A responsiveness summary was prepared and placed in the docket, EPA-HQ-SFUND-1990-0010, on https://www.regulations.gov, and in the Regional repository listed in the ADDRESSES section.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Larry Douchand,
Director, Office of Superfund Remediation and Technology Innovation.

For reasons set out in the preamble, the EPA amends 40 CFR part 300 as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Amend appendix B to part 300:

a. In Table 1 by revising the entries for “IA, Midwest Manufacturing/North Farm, Kellogg”; “IN, Lake Sandy Jo (M&M Landfill), Gary”; and “PA, Palmerton Zinc Pile, Palmerton”; and

b. In Table 2 by revising the entry for “CA, Fort Ord, Marina”.

The revisions read as follows:

Appendix B to Part 300—National Priorities List

Table 1—General Superfund Section
State | Site name | City/county | Notes a
IA | Midwest Manufacturing/North Farm | Kellogg | P
* * * * * * *
IN | Lake Sandy Jo (M&M Landfill) | Gary | P
* * * * * * *
PA | Palmerton Zinc Pile | Palmerton | P
* * * * * * *
ᵃ * * *
P = Sites with partial deletion(s).

Table 2—Federal Facilities Section
State | Site name | City/county | Notes a
* * * * * * *
CA | Fort Ord | Marina | P
* * * * * * *
* * * * * *
(a) * * *
P = Sites with partial deletion(s).

[FR Doc. 2021-10133 Filed 5-13-21; 8:45 am]

BILLING CODE 6560-50-P